DEPARTMENT OF DEFENSE

Department of the Army

Army Science Board; Notice of Open Meeting

In accordance with Section 10(a)(2) of the Federal Advisory Committee Act (Pub. L. 92-463), announcement is made of the following Committee Meeting:

Name of Committee: Army Science Board (ASB).

Date(s) of Meeting: 17-18 January 2007.

Time(s) of Meeting: 0700-1700, 17 January 2007; 0700-1700, 18 January 2007.

Place: Hampton Roads Convention Center, Hampton, VA.

1. Agenda: The FY07 study panels of the Army Science Board (ASB) are holding a Plenary Meeting on 17-18 January 2007. The meetings will be held at the Hampton Roads Convention Center, Hampton, VA. The plenary will begin at 0700 hrs on the 17th and will end at approximately 1700 hrs on the 18th. For further information on the FY07 ASB Plenary Meeting, please contact COL Heather Ierardi @ (703) 604-7474 or e-mail @ heather.ierardi@hqda.army.mil.

Wayne Joyner,
Program Support Specialist, Army Science Board.

[FR Doc. 07-93 Filed 1-11-07; 8:45 am]

BILLING CODE 3710-08-M